DEPARTMENT OF TRANSPORTATION

Federal Aviation Administration

14 CFR Part 39

[Docket No. FAA-2024-2010; Project Identifier AD-2024-00366-R; Amendment 39-22807; AD 2024-16-01]

RIN 2120-AA64

Airworthiness Directives; Bell Textron Inc. (Type Certificate Previously Held by Bell Helicopter Textron, Inc.), Helicopters

AGENCY: Federal Aviation Administration (FAA), DOT.

ACTION: Final rule; request for comments.

SUMMARY: The FAA is superseding Airworthiness Directive (AD) 2000-18-09, which applied to certain Bell Helicopter Textron, Inc. (now Bell Textron Inc.), Model 412, 412CF, and 412EP helicopters. AD 2000-18-09 required repetitively inspecting the upper left-hand cap angle (cap angle) and adjacent structure for a crack and, depending on the results, replacing any cracked cap angle and repairing any crack in the adjacent structure. This AD was prompted by a report of a fatigue crack in a tail boom attachment cap angle. This AD retains the requirements of AD 2000-18-09, expands the applicability by adding models and an additional part-numbered cap angle, reduces the inspection intervals, and requires using updated procedures. This AD also updates the reporting requirement. The FAA is issuing this AD to address the unsafe condition on these products.

DATES: This AD is effective September 4, 2024.

The Director of the Federal Register approved the incorporation by reference of certain publications listed in this AD as of September 4, 2024.

The FAA must receive comments on this AD by October 4, 2024.

ADDRESSES: You may send comments, using the procedures found in 14 CFR 11.43 and 11.45, by any of the following methods:

• Federal eRulemaking Portal: Go to regulations.gov. Follow the instructions for submitting comments.

• Fax: 202-493—2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2024-2010; or in person at Docket Operations between 9 a.m. and 5 p.m., Monday through Friday, except Federal holidays. The AD docket contains this final rule, any comments received, and other information. The street address for Docket Operations is listed above.

Material Incorporated by Reference:

• For Bell material identified in this AD, contact Bell Textron, Inc., P.O. Box 482, Fort Worth, TX 76101; phone: (450) 437-2862 or (800) 363-8023; fax: (450) 433-0272; email: productsupport@bellflight.com; website: bellflight.com/support/contact-support.

• You may view this material at the FAA, Office of the Regional Counsel, Southwest Region, 10101 Hillwood Pkwy., Room 6N-321, Fort Worth, TX 76177. For information on the availability of this material at the FAA, call (817) 222-5110.

FOR FURTHER INFORMATION CONTACT: Hung Nguyen, Aviation Safety Engineer, FAA, 1801 S Airport Road, Wichita, KS 67209; phone: (562) 627-5362; email: hung.v.nguyen@faa.gov.

SUPPLEMENTARY INFORMATION:

Comments Invited

The FAA invites you to send any written data, views, or arguments about this final rule. Send your comments to an address listed under the ADDRESSES section. Include “Docket No. FAA-2024-2010; Project Identifier AD-2024-00366-R” at the beginning of your comments. The most helpful comments reference a specific portion of the final rule, explain the reason for any recommended change, and include supporting data. The FAA will consider all comments received by the closing date and may amend this final rule because of those comments.

Except for Confidential Business Information (CBI) as described in the following paragraph, and other information as described in 14 CFR 11.35, the FAA will post all comments received, without change, to regulations.gov, including any personal information you provide. The agency will also post a report summarizing each substantive verbal contact received about this final rule.

Confidential Business Information

CBI is commercial or financial information that is both customarily and actually treated as private by its owner. Under the Freedom of Information Act (FOIA) (5 U.S.C. 552), CBI is exempt from public disclosure. If your comments responsive to this AD contain commercial or financial information that is customarily treated as private, that you actually treat as private, and that is relevant or responsive to this AD, it is important that you clearly designate the submitted comments as CBI. Please mark each page of your submission containing CBI as “PROPIN.” The FAA will treat such marked submissions as confidential under the FOIA, and they will not be placed in the public docket of this AD. Submissions containing CBI should be sent to Hung Nguyen, Aviation Safety Engineer, FAA, 1801 S Airport Road, Wichita, KS 67209; phone: (562) 627-5362; email: hung.v.nguyen@faa.gov. Any commentary that the FAA receives which is not specifically designated as CBI will be placed in the public docket for this rulemaking.

Background

The FAA issued AD 2000-18-09, Amendment 39-11894 (65 FR 55175, September 13, 2000) (AD 2000-18-09), for Bell Helicopter Textron, Inc. (now Bell Textron Inc.), Model 412, 412CF, and 412EF helicopters with cap angle part number (P/N) 212-030-191-001, installed. AD 2000-18-09 was prompted by a report of a fatigue crack in a tail boom attachment cap angle. AD 2000-18-09 required repetitively inspecting certain part-numbered cap angles for a crack and, depending on the results, replacing a cracked cap angle with an airworthy cap angle and repairing any cracked adjacent structure. AD 2000-18-09 also required reporting any crack to the FAA. The FAA issued AD 2000-18-09 to prevent failure of a cap angle, loss of the tail boom, and subsequent loss control of the helicopter.

Actions Since Issuance of AD 2000-18-09

Since the FAA issued AD 2000-18-09, Bell Textron Inc., has received additional reports of occurrences of fractured cap angles, which were found during routine inspections and during the repetitive 100 hours time-in-service (TIS) inspection required by AD 2000-18-09. Further investigation revealed the 100 hours TIS interval is not adequate to detect cracks before fracture of a cap angle could occur. Accordingly, Bell Textron Inc., issued updated material to reduce the inspection interval to 25 flight hours for certain helicopters and 50 flight hours for certain other helicopters to detect cracks and prevent failures of the cap angle. The updated material also specifies inspecting for and removing any sealant before inspecting the cap angle area. Additionally, due to the similarity to Model 412, 412CF, and 412EP helicopters, the FAA determined that Bell Textron Inc., Model 212, 205A, 205A-1, and 205B helicopters are also affected by the same unsafe condition.

Furthermore, since AD 2000-18-09 was issued, the FAA has revised its writing practices to comply with updated formats and policy. As a result, paragraph identifiers have changed and the reporting requirement that was required by AD 2000-18-09 has been revised in this AD. This AD also incorporates updated procedures by reference and removes the information in Note 1 of AD 2000-18-09 as that information is understood.

Lastly, since the FAA issued AD 2000-18-09, Bell Helicopter Textron, Inc., changed its name to Bell Textron Inc.; this AD reflects that change.

FAA's Determination

The FAA is issuing this AD because the agency determined the unsafe condition described previously is likely to exist or develop in other products of the same type designs.

Material Incorporated by Reference Under 1 CFR Part 51

The FAA reviewed Bell Alert Service Bulletin (ASB) 205-24-122 for Model 205A and 205A-1 helicopters, Bell ASB 205B-24-77 for Model 205B helicopters, Bell ASB 212-24-169 for Model 212 helicopters, Bell ASB 412-24-197 for Model 412 and 412EP helicopters, and Bell ASB 412CF-24-77 for Model 412CF helicopters, all dated April 22, 2024. This material specifies procedures for inspecting for and removing any sealant, inspecting the cap angle area with a 10X magnifying glass and bright light for a crack and if a crack is found, this material specifies replacing the cap angle or contacting Bell for further instructions. This material also specifies touching up any primer that may have been damaged during the sealant removal.

This material is reasonably available because the interested parties have access to it through their normal course of business or by the means identified in the ADDRESSES section.

AD Requirements

This AD requires visually inspecting for sealant around the edge of the fitting and depending on the results, removing any sealant. This AD also requires, using a 10X or higher power magnifying glass and flashlight, inspecting the cap angle and adjacent structure for a crack. Depending on these results, this AD requires removing an affected cap angle from service and installing an airworthy cap angle, repairing an affected adjacent structure, and reporting certain information to the FAA.

Differences Between This AD and the Referenced Material

If there is a crack in the cap angle and the helicopter is at a location where the cap angle cannot be replaced, the referenced material specifies contacting the manufacturer, whereas this AD does not include that action.

If there is a crack in the adjacent structure to the cap angle, this AD requires repairing the adjacent structure in accordance with a method approved by the FAA, whereas the referenced material does not address this condition.

If there is a crack, this AD requires reporting certain information, whereas the referenced material does not.

Interim Action

The FAA considers this AD to be an interim action. The manufacturer is currently investigating the root cause of the unsafe condition identified in this AD. If final action is later identified, the FAA might consider further rulemaking.

Justification for Immediate Adoption and Determination of the Effective Date

Section 553(b) of the Administrative Procedure Act (APA) (5 U.S.C. 551 et seq.) authorizes agencies to dispense with notice and comment procedures for rules when the agency, for “good cause,” finds that those procedures are “impracticable, unnecessary, or contrary to the public interest.” Under this section, an agency, upon finding good cause, may issue a final rule without providing notice and seeking comment prior to issuance. Further, section 553(d) of the APA authorizes agencies to make rules effective in less than thirty days, upon a finding of good cause.

An unsafe condition exists that requires the immediate adoption of this AD without providing an opportunity for public comments prior to adoption. The FAA has found that the risk to the flying public justifies forgoing notice and comment prior to adoption of this rule because the affected components are part of an assembly that is critical to the control of a helicopter. In addition, cracking could lead to instantaneous failure before detection. As the FAA has no information pertaining to the extent of cracking of the affected components that may currently exist in helicopters or how quickly the condition may propagate to failure, for certain helicopters the initial instance of the actions required by this AD must be accomplished within 25 hours TIS, and thereafter within intervals not to exceed 25 hours TIS. Based on the average flight-hour utilization rate of these helicopters, the compliance time for the initial instance of the required actions is a period of up to 1 month. Accordingly, notice and opportunity for prior public comment are impracticable and contrary to the public interest pursuant to 5 U.S.C. 553(b).

In addition, the FAA finds that good cause exists pursuant to 5 U.S.C. 553(d) for making this amendment effective in less than 30 days, for the same reasons the FAA found good cause to forgo notice and comment.

Regulatory Flexibility Act

The requirements of the Regulatory Flexibility Act (RFA) do not apply when an agency finds good cause pursuant to 5 U.S.C. 553 to adopt a rule without prior notice and comment. Because FAA has determined that it has good cause to adopt this rule without prior notice and comment, RFA analysis is not required.

Costs of Compliance

The FAA estimates that this AD affects 157 helicopters of U.S. registry. Labor costs are estimated at $85 per work-hour. Based on these numbers, the FAA estimates the following costs to comply with this AD.

Visually inspecting for the presence of sealant takes a minimal amount of time for a nominal cost. If required, removing sealant will take approximately 0.5 work-hour for an estimated cost of $43 per helicopter.

Inspecting the cap angle and adjacent structure will take approximately 0.5 work-hour for an estimated cost of $43 per helicopter and $6,751 for the U.S. fleet, per inspection cycle.

If required, replacing an affected cap angle will take approximately 400 work-hours and parts will cost up to approximately $1,171 for an estimated cost of $35,171 per replacement.

If required, repairing an adjacent structure will take approximately 16 work-hours for an estimated cost of $1,360 per helicopter. The FAA has no data to determine the parts costs to accomplish this repair.

If required, reporting inspection results will take approximately 1 work-hour for an estimated cost of $85 per report.

Paperwork Reduction Act

A federal agency may not conduct or sponsor, and a person is not required to respond to, nor shall a person be subject to a penalty for failure to comply with a collection of information subject to the requirements of the Paperwork Reduction Act unless that collection of information displays a currently valid OMB Control Number. The OMB Control Number for this information collection is 2120-0056. Public reporting for this collection of information is estimated to be approximately 1 hour per response, including the time for reviewing instructions, searching existing data sources, gathering and maintaining the data needed, and completing and reviewing the collection of information. All responses to this collection of information are mandatory. Send comments regarding this burden estimate or any other aspect of this collection of information, including suggestions for reducing this burden to: Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866, and

(2) Will not affect intrastate aviation in Alaska.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2000-18-09, Amendment 39-11894 (65 FR 55175, September 13, 2000); and

b. Adding the following new airworthiness directive:

2024-16-01 Bell Textron Inc. (Type Certificate previously held by Bell Helicopter Textron, Inc.): Amendment 39-22807; Docket No. FAA-2024-2010; Project Identifier AD-2024-00366-R.

(a) Effective Date

This airworthiness directive (AD) is effective September 4, 2024.

(b) Affected ADs

This AD replaces AD 2000-18-09, Amendment 39-11894 (65 FR 55175, September 13, 2000).

(c) Applicability

This AD applies to Bell Textron Inc. (type certificate previously held by Bell Helicopter Textron, Inc.), Model 205A, 205A-1, 205B, 212, 412, 412CF, and 412EP helicopters, certificated in any category, identified in paragraphs (c)(1) and (2) of this AD.

(1) Model 205A, 205A-1, and 205B helicopters, with an upper left-hand cap angle (cap angle) part number (P/N) 205-030-207-005 installed.

(2) Model 212, 412, 412CF, and 412EP helicopters, with a cap angle P/N 212-030-191-001 installed.

(d) Subject

Joint Aircraft System Component (JASC) Code: 5300, Fuselage structure.

(e) Unsafe Condition

This AD was prompted by reports of a fatigue crack in a tail boom attachment cap angle. The FAA is issuing this AD to prevent failure of a cap angle. The unsafe condition, if not addressed, could result in failure of the fuselage and bulkhead, and subsequent separation of the tail boom and loss control of the helicopter.

(f) Compliance

Comply with this AD within the compliance times specified, unless already done.

(g) Required Actions

(1) For Model 205A, 205A-1, 205B, 212, 412CF, and 412 helicopters identified in paragraph (c) of this AD; and for Model 412EP helicopters identified in paragraph (c)(2) of this AD with serial numbers 36087 through 36693 inclusive, within 25 hours time-in-service (TIS) after the effective date of this AD, and thereafter at intervals not to exceed 25 hours TIS; and for Model 412EP helicopters identified in paragraph (c)(2) of this AD with serial numbers 36694 through 36999 inclusive and 37002 through 37999 inclusive, within 50 hour TIS after the effective date of this AD, and thereafter at intervals not to exceed 50 hours TIS, accomplish the actions required by paragraphs (g)(1)(i) and (ii) of this AD.

(i) Visually inspect for the presence of sealant around the forward edge of the left-hand tail boom cap angle fitting in the “Inspection Area” depicted in Figure 1., of Bell Alert Service Bulletin (ASB) 205-24-122, Bell ASB 205B-24-77, Bell ASB 212-24-169, Bell ASB 412-24-197, or Bell ASB 412CF-24-77, all dated April 22, 2024, as applicable to your model helicopter. If there is any sealant, before further flight, remove any sealant by following the Accomplishment Instructions, paragraph 2., of Bell ASB 205-24-122, Bell ASB 205B-24-77, Bell ASB 212-24-169, Bell ASB 412-24-197, or Bell ASB 412CF-24-77, all dated April 22, 2024, as applicable to your model helicopter.

(ii) Using a 10X or higher power magnifying glass and flashlight, visually inspect the cap angle and adjacent structure for a crack in the “Inspection Area” depicted in Figure 1., of Bell ASB 205-24-122, Bell ASB 205B-24-77, Bell ASB 212-24-169, Bell ASB 412-24-197, or Bell ASB 412CF-24-77, all dated April 22, 2024, as applicable to your model helicopter.

(A) If there is any crack in the cap angle, before further flight, remove the cap angle from service and install an airworthy cap angle.

(B) If there is any crack in the adjacent structure, before further flight, repair the structure in accordance with a method approved by the Manager, Central Certification Branch, FAA. For a repair method to be approved by the Manager, Central Certification Branch, FAA; as required by this paragraph, the Manager's approval letter must specifically refer to this AD.

(2) If there is a crack as a result of any instance of an inspection required by paragraph (g)(1)(ii) of this AD, within 10 days after completing the inspection, report the information in Appendix 1 to this AD by email to OperationalSafety@faa.gov.

(h) Special Flight Permit

Special flight permits may be issued in accordance with 14 CFR 21.197 and 21.199 to operate the helicopter to a location where the actions required by this AD can be performed, provided after takeoff, the flight is straight and level until landing, and avoids areas of known turbulence and provided no passengers are onboard.

(i) Alternative Methods of Compliance (AMOCs)

(1) The Manager, Central Certification Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j) of this AD. Information may be emailed to: AMOC@faa.gov.

(2) Before using any approved AMOC, notify your appropriate principal inspector, or lacking a principal inspector, the manager of the local flight standards district office/certificate holding district office.

(j) Related Information

For more information about this AD, contact Hung Nguyen, Aviation Safety Engineer, FAA, 1801 S Airport Road, Wichita, KS 67209; phone: (562) 627-5362; email: hung.v.nguyen@faa.gov.

(k) Material Incorporated by Reference

(1) The Director of the Federal Register approved the incorporation by reference (IBR) of the material listed in this paragraph under 5 U.S.C. 552(a) and 1 CFR part 51.

(2) You must use this material as applicable to do the actions required by this AD, unless the AD specifies otherwise.

(i) Bell Alert Service Bulletin (ASB) 205-24-122, dated April 22, 2024.

(ii) Bell ASB 205B-24-77, dated April 22, 2024.

(iii) Bell ASB 212-24-169, dated April 22, 2024.

(iv) Bell ASB 412-24-197, dated April 22, 2024.

(v) Bell ASB 412CF-24-77, dated April 22, 2024.

(3) For Bell material identified in this AD, contact Bell Textron, Inc., P.O. Box 482, Fort Worth, TX 76101; phone: (450) 437-2862 or (800) 363-8023; fax: (450) 433-0272; email: productsupport@bellflight.com; website: bellflight.com/support/contact-support.

(4) You may view this material at the FAA, Office of Regional Counsel, Southwest Region, 10101 Hillwood Pkwy., Fort Worth, TX 76177. For information on the availability of this material at the FAA, call (817) 222-5110.

(5) You may view this material at the National Archives and Records Administration (NARA). For information on the availability of this material at NARA, visit www.archives.gov/federal-register/cfr/ibr-locations or email fr.inspection@nara.gov.

Appendix 1 to AD 2024-16-01

Report the following information for each crack by email to: OperationalSafety@faa.gov.

In the subject line of the email, include the text “AD 2024-16-01”.

(1) Date of inspection that revealed a crack in the cap angle or in the adjacent structure.

(2) Helicopter Model:

(3) Date of previous inspection of the cap angle and adjacent structure:

(4) Helicopter serial number:

(5) Total hours time-in-service accumulated since new on the airframe:

(6) Helicopter N-number:

(7) Cap angle(s) part number:

(8) Describe in detail any information and findings, including any previous maintenance or modification of the cracked area, any cracks in the surrounding areas such as the fitting or web, and, if possible, provide photos.

Issued on August 1, 2024.
Victor Wicklund,
Deputy Director, Compliance & Airworthiness Division, Aircraft Certification Service.

[FR Doc. 2024-18580 Filed 8-15-24; 11:15 am]

BILLING CODE 4910-13-P